COMMITTEE FOR PURCHASE FROM PEOPLE WHO ARE BLIND OR SEVERELY DISABLED

Procurement List; Proposed Addition and Deletions

AGENCY: Committee for Purchase From People Who Are Blind or Severely Disabled.

ACTION: Proposed addition to and deletions from the Procurement List.

SUMMARY: The Committee is proposing to add a product to the Procurement List that will be furnished by a nonprofit agency employing persons who are blind or have other severe disabilities, and deletes products previously furnished by such agencies.

DATES: Comments must be received on or before: February 18, 2018.

ADDRESSES: Committee for Purchase From People Who Are Blind or Severely Disabled, 1401 S. Clark Street, Suite 715, Arlington, Virginia 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Addition

If the Committee approves the proposed addition, the entities of the Federal Government identified in this notice will be required to procure the product listed below from the nonprofit agency employing persons who are blind or have other severe disabilities.

The following product is proposed for addition to the Procurement List for production by the nonprofit agency listed:

Product

NSN—Product Name:

2815-01-492-5709—Parts Kit, Diesel Engine Hydraulic Transmission

Mandatory Source of Supply: Georgia Industries for the Blind, Bainbridge, GA

Mandatory for: 100% of the requirement of the Department of Defense

Contracting Activity: Defense Logistics Agency Land and Maritime

Deletions

The following products are proposed for deletion from the Procurement List:

Products

NSNs—Product Names:

6515-00-NIB-8007—Gloves, Surgical, Powder-free, Latex, Signature Glide, Translucent Yellow, Size 5.5″

6515-00-NIB-8008—Gloves, Surgical, Powder-free, Latex, Signature Glide, Translucent Yellow, Size 6″

6515-00-NIB-8009—Gloves, Surgical, Powder-free, Latex, Signature Glide, Translucent Yellow, Size 6.5″

6515-00-NIB-8010—Gloves, Surgical, Powder-free, Latex, Signature Glide, Translucent Yellow, Size 7″

6515-00-NIB-8011—Gloves, Surgical, Powder-free, Latex, Signature Glide, Translucent Yellow, Size 7.5″

6515-00-NIB-8012—Gloves, Surgical, Powder-free, Latex, Signature Glide, Translucent Yellow, Size 8″

6515-00-NIB-8013—Gloves, Surgical, Powder-free, Latex, Signature Glide, Translucent Yellow, Size 8.5″

6515-00-NIB-8014—Gloves, Surgical, Powder-free, Latex, Signature Glide, Translucent Yellow, Size 9″

Mandatory Source of Supply: BOSMA Enterprises, Indianapolis, IN

Contracting Activity: Department of Veterans Affairs, Strategic Acquisition Center

NSNs—Product Names:

9905-01-363-0874—Sign Kit, Contaminate, 8″ x 10″, CAUTION CONTROLLED SURFACE CONTAMINATION AREA

9905-01-363-0878—Sign Kit, Contaminate, CONTROL POINT AREA, CONTROL POINT WATCH, PERMISSION REQUIRED FOR ENTRY

9905-01-454-4649—Sign Kit, Contaminate, 4″ x 5.5″, HOT SPOT, ____MR/HR, __ON CONTACT, __ON CONTACT, WITH SHIELDING

9905-01-454-4651—Sign Kit, Contaminate, 8″ x 10″, CAUTION, HIGH RADIATION AREA, NO ENTRY BY UNAUTHORIZED PERSONNEL

9905-01-454-4655—Sign Kit, Contaminate, CAUTION RADIOLOGICALLY CONTROLLED AREA/RADIOLOGICAL CONTROLS REQUIRED FOR ENT

9905-01-454-4658—Sign Kit, Contaminate, 8″ x 10″, CAUTION RADIATION AREA

9905-01-454-4663—Sign Kit, Contaminate, 8″ x 10″, CAUTION RADIOACTIVE MATERIAL

Mandatory Source of Supply: Handicapped Development Center, Davenport, IA

Contracting Activity: NAVSUP WEAPON SYSTEMS SUPPORT

Patricia Briscoe,
Deputy Director, Business Operations, Pricing and Information Management.

[FR Doc. 2018-00904 Filed 1-18-18; 8:45 am]

BILLING CODE 6353-01-P